ENVIRONMENTAL PROTECTION AGENCY

[FRL-10008-98-OA]

Meeting of the Local Government Advisory Committee and the Small Communities Advisory Subcommittee

AGENCY: Environmental Protection Agency (EPA).

ACTION: Notice.

SUMMARY: The Local Government Advisory Committee (LGAC) will conduct a virtual meeting on Friday, May 15, 2020, 11:00 a.m.-2:00 p.m. (EDT). The focus of the Committee meeting will be to: Deliberate and vote on the Risk Communication Report drafted by the Revitalizing Communities Workgroup of the LGAC and reviewed by other LGAC workgroups and the Small Communities Advisory Subcommittee (SCAS); discuss workgroup charges and issues; and determine the Committee's agenda and priorities for the remainder of the year. These are open meetings, and all interested persons are invited to participate. The LGAC and SCAS will hear comments from the public between 1:10-1:25 p.m. (EDT).

Individuals or organizations wishing to address the Subcommittee, or the Committee will be allowed a maximum of five minutes to present their point of view. Also, written comments should be submitted electronically to daniels.joseph@epa.gov for the LGAC and SCAS. Please contact the Designated Federal Officers (DFO) at the numbers listed below to schedule a time on the agenda. Time will be allotted on a first-come first-serve basis, and the total period for comments may be extended if the number of requests for appearances requires it.

Meeting Logistics: The LGAC and SCAS meetings will be held virtually by conference call. Members of the public who wish to participate should register by contacting the DFO at the number below to receive the call-in number.

The agenda and other meeting materials, including the meeting summaries, will be available online at www.epa.gov/ocir/scas_lgac/lgac_index.htm and can be obtained by written request to the DFO. In the event of cancellation for unforeseen circumstances, please contact the designated federal officer or check the website above for reschedule information.

FOR FURTHER INFORMATION CONTACT: The Local Government Advisory Committee (LGAC) and Small Communities Advisory Subcommittee contact is Joseph Daniels, Acting Designated Federal Officer, at (202) 564-3115 or email at daniels.joseph@epa.gov.

Information on Services for Those With Disabilities: For information on access or services for individuals with disabilities, please contact Joseph Daniels at (202) 564-3115 or email at daniels.joseph@epa.gov. To request accommodation of a disability, please request it 10 days prior to the meeting, to give EPA as much time as possible to process your request.

Dated: April 24, 2020.
Julian E. Bowles,
Director, State and Local Government Relations, Office of Congressional and Intergovernmental Relations.

[FR Doc. 2020-09070 Filed 4-28-20; 8:45 am]

BILLING CODE 6560-50-P